DEPARTMENT OF HEALTH AND HUMAN SERVICES

Solicitation of Nominations for Membership on the National Vaccine Advisory Committee

AGENCY: Department of Health and Human Services, Office of the Secretary, Office of the Assistant Secretary for Health, Office of Infectious Disease and HIV/AIDS Policy.

ACTION: Notice.

SUMMARY: The Office of Infectious Disease and HIV/AIDS Policy (OIDP), a program office within the Office of the Assistant Secretary for Health, Department of Health and Human Services (HHS), solicits nominations of qualified candidates to be considered for appointment to the National Vaccine Advisory Committee (NVAC). The activities of this committee are governed by the Federal Advisory Committee Act (FACA).

The NVAC serves an advisory role, providing recommendations to the Assistant Secretary for Health in her capacity as the Director of the National Vaccine Program. The committee studies and recommends ways to encourage the availability of an adequate supply of safe and effective vaccination products in the United States, as well as research priorities and other measures to enhance the safety and efficacy of vaccines. The committee also advises the Assistant Secretary for Health on the implementation of sections 300aa-2, 300aa-3, and 300aa-4 of the Public Health Service (PHS) Act, including government and non-government cooperation.

A copy of the NVAC charter that describes its structure and functions and lists of the current members can be reviewed on the NVAC website at: http://www.hhs.gov/nvpo/nvac/index.html.

Submission Process: Please email all submissions to nvac@hhs.gov. All nominations for membership on the committee must be received no later than 5:00 p.m. EDT on June 24, 2022.

FOR FURTHER INFORMATION CONTACT: Ann Aikin, Acting Designated Federal Officer, U.S. Department of Health and Human Services, Office of the Assistant Secretary for Health, Office of Infectious Disease and HIV/AIDS Policy, Mary E. Switzer Building, Room L618, 330 C Street SW, Washington, DC 20024. Email: nvac@hhs.gov.

SUPPLEMENTARY INFORMATION: Committee Function, Qualifications, and Information Required: As part of an ongoing effort to enhance deliberations and discussions with the public on vaccines and immunization, nominations are being sought for interested individuals to serve on the NVAC. Committee members provide peer review, consultation, advice, and recommendations to the Assistant Secretary for Health, in her capacity as the Director of the National Vaccine Program. Individuals selected for appointment to the NVAC will serve as voting members. The NVAC consists of 17 voting members: 15 public members and 2 representative members. Individuals selected for appointment to the NVAC can be invited to serve terms of up to four years. Selection of members is based on candidates' qualifications to contribute to the accomplishment of the NVAC's objectives. Interested candidates should demonstrate a willingness to commit time to NVAC activities and the ability to work constructively and effectively on committees.

Public Members: Public members are individuals who are appointed to the NVAC to exercise their independent best judgment on behalf of the government. It is expected that public members will discuss and deliberate in a manner that is free from conflicts of interest. Public members to the NVAC shall be selected from individuals who are engaged in vaccine research or the manufacture of vaccines, or who are health care providers, members of parent organizations concerned with immunizations, representatives of state or local health agencies, or public health organizations.

Representative Members: Representative members are individuals appointed to the NVAC to provide the views of industry or a special interest group. NVAC representative members serve specifically to represent the viewpoints or perspectives of the vaccine manufacturing industry or groups engaged in vaccine research or the manufacture of vaccines.

This announcement is to solicit nominations of qualified candidates to fill positions in the public and representative member category of the NVAC. Applications received in response and not appointed may also be considered for future vacancies that occur.

Travel reimbursement provided to the committee: All NVAC members are authorized to receive reimbursement for travel expenses that are incurred to attend meetings and conduct authorized NVAC-related business, in accordance with standard government travel regulations. All other services that are performed by the public members outside the committee meetings shall be provided without compensation.

Expertise sought for the National Vaccine Advisory Committee: To enhance the diversity of expertise on the committee, OIDP seeks nominations of diverse individuals in the following disciplines/topic areas:

• Vaccine innovation and/or research and development;

• vaccine safety;

• vaccine access and financing;

• health information technologies and immunization information systems;

• immunization program implementation and management; and

• vaccine communications.

How to submit nominations: The following information should be included in the package of materials submitted for each nominee: (1) A letter of nomination that clearly states the name and affiliation of the nominee, the basis for the nomination (i.e., specific attributes that qualify the nominee for service in this capacity); and a statement that the nominee is willing to serve as a member of the committee; (2) the nominator's name, address, daytime telephone number, home and/or work address, and email address; (3) a current copy of the nominee's curriculum vitae (no longer than 10 pages); and (4) a short biographical sketch (no more than 350 words). All documentation must be received in a legible font, such as Times New Roman 12 point, for a nomination to be considered.

Please note that nominees will not receive updates on the status of their nomination, and the nomination process can take many months. Information on nominees appointed to the committee will be posted to the NVAC website at http://www.hhs.gov/nvpo/nvac/members/index.html.

Individuals can nominate themselves for consideration of appointment to the committee. Incomplete nominations will not be processed. Federal employees should not be nominated for appointment to this committee.

HHS makes efforts to ensure that the membership of federal advisory committees is balanced in terms of points of view represented and the committee's function. Likewise, HHS seeks a broad representation of individuals with diverse backgrounds to serve on HHS federal advisory committees. Appointment to NVAC will be made without discrimination based on age, race, ethnicity, gender, sexual orientation, disability, and cultural, religious, or socioeconomic status.

Individuals appointed to serve as public members of federal advisory committees are classified as special government employees (SGEs). SGEs are government employees for purposes of the conflict-of-interest laws. Therefore, individuals appointed to serve as public members of NVAC are subject to an ethics review to determine whether they have any interests and/or activities in the private sector that may conflict with performance of their official duties as an NVAC member. Individuals appointed to serve as public members of the NVAC will be required to disclose information regarding financial holdings, consultancies, research grants and/or contracts, and the absence of an appearance of a loss of impartiality.

Authority: 42 U.S.C. 300aa-5, Section 2105 of the Public Health Service Act, as amended. The National Vaccine Advisory Committee is governed by the provisions of Public Law 92-463, as amended (5 U.S.C. Appendix 2), which sets forth standards for the formation and use of advisory committees.

Dated: April 5, 2022.
Ann Aikin,
Acting Designated Federal Official, Office of the Assistant Secretary for Health.

[FR Doc. 2022-09550 Filed 5-3-22; 8:45 am]

BILLING CODE 4150-44-P